DEPARTMENT OF TRANSPORTATION

Federal Railroad Administration

[Docket Number FRA-2006-25837]

Petition for Extension of Waiver of Compliance

Under part 211 of title 49 Code of Federal Regulations (CFR), this document provides the public notice that by letter dated May 20, 2024, the Charlotte Area Transit System (CATS) petitioned the Federal Railroad Administration (FRA) for an extension of a waiver of compliance from certain provisions of the Federal railroad safety regulations contained at 49 CFR part 219 (Control of Alcohol and Drug Use). The relevant Docket Number is FRA-2006-25837.

Specifically, CATS requests relief for its fixed guideway public transit Blue Line (LYNX BLE) operation that shares limited connections in a corridor with Norfolk Southern Railway's (NS) freight operations. CATS and NS share 3 highway-rail grade crossings (East Hebron Street, Sweden Road, and East 16th Street), but they “do not share any trackage or train control systems.”

In support of its request, CATS states that it “has already adopted and enforces a comprehensive set of drug and alcohol policies compliant with the Federal Transit Administration's (FTA) . . . requirements for covered employees that apply to the entirety of the CATS light rail service.” ¹ Further, CATS states that the relief will “preserve consistency throughout the CATS System with regard to its already-existing drug and alcohol policies.” Without the requested relief, CATS would be required to comply with Part 219 only at the 3 named highway-rail grade crossings. CATS asserts that “preserving the system-wide applicability of the rules rather than having a set of different regulations applicable at these three (3) locations, would avoid confusion, promote consistency and, thus, enhance safety.”

¹ See Petition at 8, “CATS employees are fully subject to, and CATS complies with FTA's Part 655 Requirements.”

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by October 21, 2024 will be considered by FRA before final action is taken. Comments received after that date will be considered if practicable.

Anyone can search the electronic form of any written communications and comments received into any of the Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at www.transportation.gov/privacy. See also https://www.regulations.gov/privacy-notice for the privacy notice of regulations.gov.

Issued in Washington, DC.
John Karl Alexy,
Associate Administrator for Railroad Safety, Chief Safety Officer.

[FR Doc. 2024-18717 Filed 8-20-24; 8:45 am]

BILLING CODE 4910-06-P